DEPARTMENT OF COMMERCE

Census Bureau

Agency Information Collection Activities; Submission to the Office of Management and Budget (OMB) for Review and Approval; Comment Request; 2026 Census Test—Group Quarters Advance Contact (GQAC)

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection, for the 2026 Census Test—Group Quarters Advance Contact (GQAC) prior to the submission of the information collection request (ICR) to OMB for approval.

DATES: To ensure consideration, comments regarding this proposed information collection must be received on or before January 3, 2025.

ADDRESSES: Interested persons are invited to submit written comments by email to ADDC.2030.census. paperwork@census.gov. Please reference 2026 Census Test—Group Quarters Advance Contact (GQAC) in the subject line of your comments. You may also submit comments, identified by Docket Number USBC-2024-0026, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael Snow, Supervisory Program Analyst, Decennial Program Management Office, Decennial Census Management Division, 301-763-9912, dcmd.pra@census.gov.

SUPPLEMENTARY INFORMATION:

I. Abstract

During the years preceding the 2030 Census, the Census Bureau will pursue its commitment to developing a well-managed, cost-effective, and high-quality decennial census. The Census Bureau will streamline data collection processes and implement new and improved methods to count the U.S. population for the 2030 Census. This includes new and improved methods for counting individuals residing in Group Quarters (GQs), such as college/university student housing, residential treatment centers, nursing/skilled-nursing facilities, group homes, correctional facilities, hospitals, and military barracks. GQ Administrators play a vital role in GQ data collection during Group Quarters Advance Contact. They provide critical updates about the facility and residents. One of the new data collection methods is to test the capability to allow GQ Administrators to electronically review, verify and update address and other frame information associated with their GQs, as well as to select a method of enumeration for their residents. The 2026 Census Test will enable the Census Bureau to test revisions to the capability to receive and extract verified and updated GQ address information electronically into a useful format prior to the subsequent Group Quarters Enumeration (GQE) operation. The specific data items that GQ Administrators will review include GQ type code, primary and secondary GQ contact name, title, telephone number and email address, name of the GQ, address of GQ, maximum number of people who could live/stay in the GQ and provide the expected number of people who will be staying in the GQ on Census Day.

The Census Bureau will examine the efficiencies provided by receiving this information using a secure portal.

Group Quarters Advance Contact (GQAC)

After the 2020 Census, the Census Bureau conducted lessons learned sessions which showed that some GQ Administrators desired to have the ability to provide GQAC operational responses electronically. During the GQAC operation, data will be collected to confirm information about the GQ that will help prepare the GQ Administrator and the field staff for the upcoming GQE operation. Specific data items include, collecting an enumeration method and depending on the method selected, scheduling an enumeration appointment.

During the 2026 Census Test, the research questions for GQAC include:

1. Can a web-based GQAC operation provide opportunities to receive GQAC data directly from GQ Administrators?

2. Can a web-based data collection instrument that receives GQ-level data directly from GQ Administrators improve efficiency and reduce cost for the GQAC operation?

3. Can a web-based data collection instrument improve completeness and quality (e.g., lower item nonresponse rates, fewer data entry errors, etc.) in the collection of data at the GQ level?

The 2026 Census Test will inform the Census Bureau's technological and operational planning and design for the GQAC operation. This test provides the opportunity to evaluate the enhanced procedures and technologies for conducting GQAC.

Operational Procedures

The 2026 Census Test GQAC operation is designed to use web-based, in-office, and in-field methodologies to contact GQ Administrators prior to the enumeration. During the GQAC operation, data will be collected to confirm information about the GQ. Specific data items include collecting an enumeration method, the expected population for the GQ on Census Day, April 1, 2026, and depending on the method selected, scheduling an enumeration appointment.

The 2026 Census Test GQAC will be fielded to 434 GQ facilities across two regional census areas that encompasses six test sites in Western Texas; Tribal Lands within Arizona; Colorado Springs, CO; Western North Carolina; Spartanburg, SC; and Huntsville, AL. The data collection period is February 2026 through March 2026. The Census Bureau will study the potential for using a Web-Based GQAC for frame building and enumeration for the 2030 Census. Thresholds will be used as input to determine completeness and quality of GQ facility level data provided by the GQ Administrators.

• During Web-Based GQAC, GQ Administrators will log into a secure GQAC instrument to review, verify, and if needed, update the GQ information in preparation for conducting the upcoming enumeration operations.

• During In-Office GQAC, office clerks will telephone GQ Administrators (using the phone number on file for the case or researching it using the internet) to conduct interviews while capturing responses and making entries into the In-Office GQAC instrument.

• During the In-Field GQAC, census workers will follow-up with GQs that did not include pre-enumeration information such as contact information. Census workers will visit each identified GQ and conduct an in-person interview with the GQ Administrator using an automatic hand-held device to capture the same information as a Web-Based GQAC and an In-Office GQAC.

• The information below will be asked of GQ Administrators across all three methods of data collection, web-based, in-office and in-field GQAC:

○ Verify or update the GQ name, address, GQ contact person's information, GQ type code, and maximum population.

○ Collect the following information to assist enumerators in conducting the upcoming enumeration operations:

Preferred method of enumeration.

Date and time for the Census Bureau to meet with the contact person to conduct the enumeration based on the enumeration method collected.

Maximum population for the GQ.

Expected population for the GQ on Census Day, April 1, 2026.

Whether the GQ serves females only, males only, or both.

Whether the GQ residents speak languages other than English. If the GQ resident speaks another language, an interpreter or the GQ administrator will assist.

Whether there are security, privacy, or confidentiality concerns.

Whether there are logistics concerns while conducting enumeration such as facility access requirements and procedures.

Whether the contact person was responsible for other GQs.

• Technical Design

• Test the use of automated instruments to conduct Web-based, In-Office, and In-Field GQAC.

• Optimize the use of electronic response records to support the creation of the initial GQ universe for the GQAC Frame prior to enumeration.

• Utilize the GQ Contact Frame Maintenance system that will include GQ contact information, such as GQ facility name (linked to the possible GQs, name of GQ Administrator/primary contact person and secondary point of contact, phone number of contact person, and email address of GQ contact persons).

• Implement a process to virtually complete the Special Sworn Status form for GQ Administrators who select the Web-Based GQAC.

• Implement a system to track/maintain completed Special Sworn Status forms (BC-1759) collected during the American Community Survey and other Census Bureau web-based surveys. This will help minimize the number of GQ Administrators who will be required to virtually complete a Special Sworn Status form during GQAC.

II. Method of Collection

During the 2026 Census Test GQAC operation, data will be collected electronically using three modes: A web-based data collection application, in-office conducting a phone interview collecting data in the GQAC automated instrument, and in-field conducting an in-person interview collecting data on a hand-held device.

The U. S. Census Bureau will mail letters to all 434 GQs in the test area, utilizing mail delivery service such as FedEx, to inform the GQ Administrator about the upcoming GQAC operation.

Web GQAC

During the Web GQAC, GQ Administrators will log into a secure GQAC data collection instrument to review, verify, and, if needed, update the GQ information in preparation for conducting the upcoming enumeration operations.

At the start of the operation, the system will be programmed to automatically send Web GQAC Introductory Emails to GQ Administrators who meet the following conditions:

• Valid email address.

• Sworn-in point of contact.

• College/university student housing (Type code 501) or federal and state correctional facility (Type codes 101, 102, 103), Military Barracks/and Dormitories (Type code 601) (Residents living or staying in these type codes will be allowed to submit their enumeration over the internet using GQ internet Self-Response (ISR)).

• GQ(s) linked to their respective facility.

The email for the GQ Administrators will contain the following information: Login information (GQ user ID), link to the Web GQAC questionnaire, instructions and overview, and pertinent dates such as the start and end dates of the Web-Based GQAC.

The contact strategy for the Web GQAC is as follow:

• Initial email will be sent to the GQ Administrator on February 2, 2026, the start date of the operation.

• First reminder email for nonresponding GQs will be sent five (5) business days after the initial email.

• Second reminder email for nonresponding GQs will be sent three (3) business days after the first reminder emails.

• Third and final reminder email for nonresponding GQs will be sent three (3) business days after the second reminder emails.

In-Office GQAC

During In-Office GQAC, office clerks will call the GQ Administrator (using the phone number on file for the case or researching it using the internet) and conduct interviews while collecting responses and making entries into the clerk mode of the same secure GQAC data collection instrument used by GQ Administrators to verify and/or update the GQ information in preparation for conducting the upcoming enumeration operations.

The In-Office GQAC phone operation will include the following:

• Cases that did not meet the Web GQAC criteria stated above

• Nonresponding cases from the Web GQAC

• Email bounce backs from Web GQAC or non-responding contacts from the Web GQAC mailout.

The contact strategy for the In-Office GQAC is as follow:

• Three phone attempts: attempt 1, attempt 2, attempt 3 (final).

• After the 3rd (final) attempt, case(s) will be assigned to the Census Field Supervisor to conduct an In-Field GQAC.

In-Field GQAC

The In-Field GQAC visit operation will include all unresolved cases from the Web GQAC and In-Office GQAC.

• Census workers will follow-up in the field with GQs for which pre-enumeration information such as contact information was not obtained.

• Census workers will visit each identified GQ and conduct an in-person interview with the GQ contact person using an automated hand-held device to capture the same information collected during Web GQAC and In-Office GQAC.

III. Data

OMB Control Number: 0607-XXXX.

Form Number(s): D6-L-GA(ES), D6-CN-GA(ES), D6-E-GA(E/S).

Type of Review: Regular submission.

Affected Public: Administrators, primary and/or secondary contacts at Group Quarters facilities.

Estimated Number of Respondents: 434.

Estimated Time per Response: 30 minutes.

Estimated Total Annual Burden Hours: 217.

Estimated Total Annual Cost to Public: $0.

Respondent's Obligation: Mandatory.

Legal Authority: Title 13 U.S.C. 141 and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-25592 Filed 11-1-24; 8:45 am]

BILLING CODE 3510-07-P